FEDERAL MINE SAFETY AND HEALTH REVIEW COMMISSION

Sunshine Act Meeting; Notice

Time and Date: 10 a.m., Thursday, March 15, 2001.

Place: Room 6005, 6th Floor, 1730 K Street, NW., Washington, DC.

Status: Open.

Matters to be Considered: The Commission will consider and act upon the following:

1. Consolidation Coal Co., Docket No. WEVA 98-148 (Issues include whether the judge properly determined that the operator's violations of 30 CFR §§ 75.360 and 75.400 were not a result of unwarrantable failure).

Time and Date: 11:15 a.m., Friday, March 30, 2001.

Place: Department of Labor Auditorium, U.S. Department of Labor, Francis Perkins Building, 200 Constitution Avenue, NW., Washington, DC.

Status: Open.

Matters to be Considered: The Commission will hear oral argument on the following:

1. Lopke Quarries, Inc., Docket No. VA 99-17-M (Issues include whether the judge erred in determining that (1) the operator violated 30 CFR § 56.11001 and that the violations were significant and substantial and due to unwarrantable failure, (2) the operator did not violate 30 CFR § 56.14100(b), and (3) the operator did not violate 30 CFR § 56.14101(a)(2)):

Sandra G. Farrow,
Acting Chief Docket Clerk.

Time and Date: 10 a.m., Tuesday, April 3, 2001.

Place: Room 6005, 6th Floor, 1730 K Street, NW., Washington, DC.

Status: Open.

Matters to be Considered: The Commission will consider and act upon the following:

1. Lopke Quarries, Inc., Docket No. VA 99-17-M (see oral argument listing).

Any person attending an open meeting who requires special accessibility features and/or auxiliary aids, such as sign language interpreters, must inform the Commission in advance of those needs. Subject to 29 CFR § 2706.150(a)(3) and § 2706.160(d).

Contact Person for More Information: Jean Ellen (202) 653-5629/(202) 708-9300 for TDD Relay/1-800-877-8339 for toll free.

[FR Doc. 01-6370 Filed 3-9-01; 3:44 pm]

BILLING CODE 6735-01-M